DEPARTMENT OF AGRICULTURE

Agricultural Marketing Service

7 CFR Part 1205

[Doc. # AMS-CN-09-0015; CN-09-002]

Cotton Board Rules and Regulations: Adjusting Supplemental Assessment on Imports (2009 Amendments)

Correction

In rule document E9-16031 beginning on page 32400 in the issue of Wednesday, July 8, 2009, make the following correction:

§1205.510 [Corrected]

On page 32403, in §1205.510(3)(ii), in the table titled IMPORT ASSESSMENT TABLE, the third column heading, “Cents/pkg.” should read “Cents/kg.”, throughout the table.

[FR Doc. Z9-16031 Filed 8-5-09; 8:45 am]

BILLING CODE 1505-01-D